OFFICE OF THE UNITED STATES TRADE REPRESENTATIVE

Technical Corrections to the Harmonized Tariff Schedule of the United States

AGENCY: Office of the United States Trade Representative.

ACTION: Notice.

SUMMARY: The United States Trade Representative (USTR) is making technical corrections to the Harmonized Tariff Schedule of the United States (HTS) as set forth in the Annex to this notice, pursuant to authority delegated to the USTR in Presidential Proclamation 6969 of January 27, 1997 (62 FR 4415). These modifications correct one inadvertent omission in Presidential Proclamation 6763 of December 23, 1994 (60 FR 1007), two inadvertent errors in Presidential Proclamation 7351 of October 2, 2000 (65 FR 59329), and one inadvertent error in provisions added to the HTS pursuant to Proclamation 7529 of March 5, 2002 (67 FR 10553) and Proclamation 7576 of July 3, 2002 (67 FR 45285) so that the intended tariff treatment is provided.

EFFECTIVE DATE: As indicated in the Annex.

FOR FURTHER INFORMATION CONTACT: Jean Kemp, Office of the U.S. Trade Representative, (202) 395-6160.

SUPPLEMENTARY INFORMATION: Proclamation 7351 implemented the United States-Caribbean Basin Trade Partnership Act (CBTPA). Section 211 of the CBTPA provides that eligible textile and apparel articles of a designated CBTPA beneficiary country shall enter the United States free of duty and free of quantitative limitations. The annex to Proclamation 7351 made modifications to the HTS in order to implement the tariff treatment provided under the CBTPA. The Annex to this notice modifies the annex to Proclamation 7351 to correct two inadvertent errors so that the intended tariff treatment is provided. Proclamation 6763 implemented the trade agreements resulting from the Uruguay Round of multilateral trade negotiations. The annex to Proclamation 6763 made modifications to the HTS in order to implement the tariff treatment provided under the Uruguay Round Agreements, including the tariff treatment provided to pharmaceutical products (see annex to Proclamation 6763 at section 1, paragraph 13). The Annex to this notice modifies the annex to Proclamation 7351 to correct one inadvertent omission so that the intended tariff treatment is provided. On March 5, 2002, Proclamation 7529 established increases in duty and a tariff-rate quota (safeguard measures) pursuant to section 203 of the Trade Act of 1974 (19 U.S.C. 2253) (Trade Act) on imports of certain steel products described in paragraph 7 of that proclamation. Effective with respect to goods entered, or withdrawn from warehouse for consumption, on or after 12:01 a.m., e.s.t., on March 20, 2002, the annex to Proclamation 7529 modified subchapter III of chapter 99 of the HTS so as to provide for such increased duties and a tariff-rate quota. Pursuant to Proclamation 7529 and Proclamation 7576 of July 3, 2002, the USTR subsequently found that particular products should be excluded from the actions under section 203 of the Trade Act. On August 30, 2002, the USTR modified the provisions that were added to subchapter III of chapter 99 of the HTS by Proclamation 7529 to implement those exclusions. 67 FR 56182. On November 14, 2002, the USTR made technical corrections to subchapter III of chapter 99 of the HTS. 67 FR 69065. The Annex to this notice modifies the provisions of subchapter III of chapter 99 of the HTS that were added pursuant to Proclamations 7529 and 7576 to correct an inadvertent error so that the intended tariff treatment is provided.

Proclamation 6969 authorized the USTR to exercise the authority provided to the President under section 604 of the Trade Act of 1974 (19 U.S.C. 2483) to embody rectifications, technical or conforming changes, or similar modifications in the HTS. Under the authority vested in the USTR by proclamation 6969, the rectifications, technical and conforming changes, and similar modifications set forth in the Annex to this notice shall be embodied in the HTS with respect to goods entered, or withdrawn from warehouse for consumption, on or after the dates indicated in the Annex.

Robert B. Zoellick,
United States Trade Representative.

Annex

The Harmonized Tariff Schedule of the United States is hereby modified as set forth herein:

(1) Effective with respect to goods entered, or withdrawn from warehouse for consumption, on or after January 1, 2004, general note 3(f)(i) is modified by deleting “subparagraph (b)” and by inserting in lieu thereof subdivision (f)(ii)”.

(2) Effective with respect to goods entered, or withdrawn from warehouse for consumption, on or after January 1, 2004, general note 4(d) is modified by deleting the following subheadings and the country or countries set out opposite each such subheading:

2902.11.00 Argentina; India

2902.60.00 India

2902.90.40 India

2902.90.60 India

2905.59.30 India

4802.55.10 Argentina

4802.56.10 Argentina

4802.56.60 Colombia

4802.57.10 Argentina

4809.10.20 Guatemala

4816.20.00 Indonesia

4823.20.10 Brazil

5701.10.13 Pakistan

5702.10.10 Pakistan

5702.20.10 India

5702.91.20 Pakistan

5805.00.20 Pakistan

5904.90.90 Guatemala; India

7308.90.70 Venezuela

7308.90.95 Argentina

(3) Effective with respect to goods of Singapore under the terms of general note 25 that are entered, or withdrawn from warehouse for consumption, on or after January 1, 2004, TCR 62.1 of general note 25(o) is modified by inserting after “5516” the expression “, 5801 through 5802”.

(4) Effective with respect to goods entered, or withdrawn from warehouse for consumption, on or after January 10, 2002, chapter 29 of the HTS is modified—

(A) by deleting subheading 2932.99.80 and by inserting in the article description of subheading 2912.29.30 in alphabetical sequence the expression “Paraldehyde, USP grade”; and

(B) by deleting from the article description of subheading 2933.99.13 the product “3-Quinuclidinol” and by redesignating such subheading as 2933.99.12, and by inserting in numerical sequence the following new provision, with the language inserted in the columns entitled “Heading/Subheading”, “Article Description”, “Rates of Duty 1-General”, “Rates of Duty 1-Special” and “Rates of Duty 2” and with the article description at the same level of indentation as that of subheading 2933.99.12 (as redesignated herein):

“2933.39.15 | : | Quinuclidin-3-ol | : | 5.8% | : | Free (A+,CA,CL,D,E,IL,JO,K,MX) | : | 15.4¢/kg+
| : |  | : |  | : |  | : | 39.5%”
| : |  | : |  | : | 4.3% (SG) | : |

The rate of duty in the special subcolumn followed by the symbol “SG” in parentheses for subheadings 2933.99.12 (as redesignated herein) and 2933.99.15 shall be subject to all staged reductions previously proclaimed by the President for subheading 2933.99.13.

(5) U.S. note 11 to subchapter III of chapter 99 is modified as follows:

(A) Effective with respect to goods entered, or withdrawn from warehouse for consumption, on or after September 1, 2002, and before the close of November 13, 2002, subdivision (c)(cxcvi) of such note is modified by deleting the language “austenitic, ferritic or martensitic crystalline structure as applicable, and containing oxides of lime silicoaluminate that form the CaO-Al2O3-SiO2 ternary composition primarily comprising anorthite and/or pseudowollastonite phases; with calcium content between 30 and 100 ppm and oxygen content between 70 and 200 ppm; products referred to as ‘UGIMA’ ” and by inserting the following language in lieu thereof: “microstructure containing complex oxides of lime-silico-aluminate (comprising metallurgical phases anhorthite and/or pseudowollastonite); with calcium content from 30 to 300 ppm and oxygen from 70 to 300 ppm, and with calcium-to-oxygen ratio from 0.2 to 0.6; sometimes referred to as (but not limited to) products known as ‘UGIMA’ ”.

(B) Effective with respect to goods entered, or withdrawn from warehouse for consumption, on or after September 1, 2002, such subdivision (c)(cxcvi) is further modified by deleting the language “5,000 t during the 12-month period beginning on September 1, 2002 or September 1, 2003 or during the period from September 1, 2004 through March 20, 2005,” and by inserting in lieu thereof the language “5,590 t during the 12-month period beginning on September 1, 2002, and not to exceed 5,000 t during the period beginning on September 1, 2003 through December 5, 2003,”.

(6) Effective with respect to goods entered, or withdrawn from warehouse for consumption, on or after January 1, 2004:

(A) U.S. note 12(b) to subchapter XI to chapter 99 is modified by deleting the following:

Beginning in calendar year 2015, quantitative limitations on the aggregate quantity of goods of Chile's trade surplus entered under subheading 9911.17.05 shall cease to apply on such originating goods of Chile.

and by inserting the following in lieu thereof:

Beginning in calendar year 2015, the aggregate quantity of originating goods of Chile entered under heading 9911.17.05 in any calendar year shall be the quantity of goods equal to the amount of Chile's trade surplus in subdivision (a) of this note.

(B) The article description of subheading 9911.96.26 is modified by deleting “$2.025¢/kg” and inserting “$2.025/kg” in lieu thereof.

(C) The article description of subheading 9911.96.44 is modified by deleting “$1.341¢/kg” and inserting “$1.341/kg” in lieu thereof.

(D) The article description of subheading 9911.96.63 is modified by deleting “$1.236kg” and inserting “$1.236/kg” in lieu thereof.

(E) The article description of subheading 9911.96.68 is modified by deleting “93.6¢kg” and inserting “93.6¢/kg” in lieu thereof.

(F) The article description of subheading 9911.96.73 is modified by deleting “84.6¢kg” and inserting “84.6¢/kg” in lieu thereof.

(G) The article description of subheading 9911.97.24 is modified by deleting “$2.214¢/kg” and inserting “$2.214/kg” in lieu thereof.

[FR Doc. 04-6782 Filed 3-25-04; 8:45 am]

BILLING CODE 3190-W3-P